DEPARTMENT OF ENERGY

Federal Energy Regulatory Commission

Combined Notice of Filings. #1

January 20, 2010.

Take notice that the Commission received the following electric corporate filings:

Docket Numbers: EC10-38-000.

Applicants: Tucson Electric Power Company.

Description: Application Pursuant to Section 203 of the Federal Power Act and Request for Expedited Consideration of Tucson Electric Power Company.

Filed Date: 01/15/2010.

Accession Number: 20100115-5041.

Comment Date: 5 p.m. Eastern Time on Friday, February 05, 2010.

Docket Numbers: EC10-39-000.

Applicants: American Transmission Company LLC.

Description: Application for Authority to Acquire Transmission Facilities Under Section 203 of the Federal Power Act and Request for Expedited Action of American Transmission Company LLC.

Filed Date: 01/19/2010.

Accession Number: 20100119-5112.

Comment Date: 5 p.m. Eastern Time on Tuesday, February 09, 2010.

Take notice that the Commission received the following electric rate filings:

Docket Numbers: ER96-780-027; ER00-3240-017; ER01-1633-014.

Applicants: Southern Company Services, Inc., Southern Power Company, Oleander Power Project, L.P., Southern Company—Florida LLC.

Description: Southern Company Services, Inc., et al. Notice of Non-Material Change in Status.

Filed Date: 01/19/2010.

Accession Number: 20100119-5118.

Comment Date: 5 p.m. Eastern Time on Tuesday, February 09, 2010.

Docket Numbers: ER97-324-017; ER97-3834-023.

Applicants: DTE Energy Trading, Inc., The Detroit Edison Company.

Description: Application of The Detroit Edison Company and DTE Energy Trading, Inc. for Continued Waiver of Affiliate Restrictions.

Filed Date: 01/19/2010.

Accession Number: 20100119-5205.

Comment Date: 5 p.m. Eastern Time on Tuesday, February 09, 2010.

Docket Numbers: ER98-564-012; ER09-328-002.

Applicants: TransCanada Power Marketing Ltd.; TransCanada Energy Sales Ltd.

Description: Amendment to Request for Category 1 Seller Status of TransCanada Power Marketing Ltd. and TransCanada Energy Sales Ltd.

Filed Date: 01/19/2010.

Accession Number: 20100119-5202.

Comment Date: 5 p.m. Eastern Time on Tuesday, February 09, 2010.

Docket Numbers: ER99-2311-014; ER97-2846-017.

Applicants: Florida Power Corporation, Carolina Power & Light Company.

Description: Response of Carolina Power & Light Company and Florida Power Corporation to Change in Status Letter Order dated December 30, 2009.

Filed Date: 01/14/2010.

Accession Number: 20100114-5052.

Comment Date: 5 p.m. Eastern Time on Thursday, February 04, 2010.

Docket Numbers: ER99-2948-019; ER00-2918-018; ER10-346-004; ER05-261-011; ER01-556-017; ER01-1654-021; ER02-2567-018; ER05-728-011; ER04-485-016; ER07-244-010; ER07-245-010; ER07-247-010.

Applicants: R.E. Ginna Nuclear Power Plant, LLC, Baltimore Gas and Electric Company, Constellation Energy Commodities Group, Constellation Power Source Generation LLC, Constellation NewEnergy, Inc., Nine Mile Point Nuclear Station, LLC, Handsome Lake Energy, LLC, Constellation Energy Commodities Group M, Calvert Cliffs Nuclear Power Plant LLC, Raven One, LLC, Raven Three, LLC, Raven Two, LLC.

Description: Baltimore Gas and Electric Company, et al. Notice of Change in Status.

Filed Date: 01/15/2010.

Accession Number: 20100115-5119.

Comment Date: 5 p.m. Eastern Time on Friday, February 05, 2010.

Docket Numbers: ER01-390-008; ER00-2706-008; ER08-1255-002; ER99-2769-011; ER99-3450-010; ER01-2760-007.

Applicants: Chandler Wind Partners, LLC, Foote Creek II, LLC, Foote Creek IV, LLC, Ridge Crest Wind Partners, LLC, Oak Creek Wind Power, LLC, Foote Creek III, LLC.

Description: Notice of Non-Material Change in Status of Chandler Wind Partners, LLC, et al.

Filed Date: 01/19/2010.

Accession Number: 20100119-5203.

Comment Date: 5 p.m. Eastern Time on Tuesday, February 09, 2010.

Docket Numbers: ER01-2398-017.

Applicants: Liberty Electric Power, LLC.

Description: Notice of Non-material Change in Status of Liberty Electric Power, LLC.

Filed Date: 01/15/2010.

Accession Number: 20100115-5126.

Comment Date: 5 p.m. Eastern Time on Friday, February 05, 2010.

Docket Numbers: ER09-1273-000.

Applicants: Westar Energy, Inc.

Description: Response to Deficiency Letter and Supplemental Filing of Westar Energy, Inc.

Filed Date: 01/20/2010.

Accession Number: 20100120-5009.

Comment Date: 5 p.m. Eastern Time on Wednesday, February 10, 2010.

Docket Numbers: ER09-1589-002.

Applicants: American Transmission Systems, Inc.

Description: FirstEnergy Service Company's Filing in Compliance with the Commission's December 17, 2009 Order.

Filed Date: 01/15/2010.

Accession Number: 20100115-5128.

Comment Date: 5 p.m. Eastern Time on Friday, February 05, 2010.

Docket Numbers: ER10-537-001.

Applicants: Palmco Power MD, LLC.

Description: Amendment for the Petition for Acceptance of Initial Tariff, Waivers and Blanket Authority submitted by Palmco Power MD, LLC etc.

Filed Date: 01/19/2010.

Accession Number: 20100119-0221.

Comment Date: 5 p.m. Eastern Time on Tuesday, February 09, 2010.

Docket Numbers: ER10-539-001.

Applicants: Palmco Power OH, LLC.

Description: Amendment for the Petition for Acceptance of Initial Tariff, Waivers and Blanket Authority re Palmco Power OH, LLC etc.

Filed Date: 01/19/2010.

Accession Number: 20100119-0222.

Comment Date: 5 p.m. Eastern Time on Tuesday, February 09, 2010.

Docket Numbers: ER10-73-002.

Applicants: Midwest Independent Transmission System Operator, Inc.

Description: Midwest Independent Transmission System Operator, Inc submits proposed revisions to its Open Access Transmission, Energy, and Operating Reserve Markets Tariff in Compliance with FERC's 12/15/09 Order.

Filed Date: 01/14/2010.

Accession Number: 20100119-0201.

Comment Date: 5 p.m. Eastern Time on Thursday, February 04, 2010.

Docket Numbers: ER10-74-002.

Applicants: Midwest Independent Transmission System Operator, Inc.

Description: Midwest Independent Transmission System Operator, Inc submits Substitute First Revised Sheet 2763 et al to FERC Electric Tariff, Fourth Revised Volume 1 to be effective 6/1/10.

Filed Date: 01/14/2010.

Accession Number: 20100119-0206.

Comment Date: 5 p.m. Eastern Time on Thursday, February 04, 2010.

Docket Numbers: ER10-301-002.

Applicants: Black Hills Power, Inc. & Black Hills Wy.

Description: Black Hills Power, Inc et al. submits a substitute page to the Agreement to correct an error in Schedule A to the Agreement.

Filed Date: 01/14/2010.

Accession Number: 20100119-0205.

Comment Date: 5 p.m. Eastern Time on Thursday, February 04, 2010.

Docket Numbers: ER10-308-001.

Applicants: Kleen Energy Systems, LLC.

Description: Kleen Energy Systems, LLC submits Original Sheet 1 et al. to Rate Schedule FERC No 1 et al.

Filed Date: 01/15/2010.

Accession Number: 20100119-0204.

Comment Date: 5 p.m. Eastern Time on Friday, February 05, 2010.

Docket Numbers: ER10-420-001.

Applicants: Crystal Lake Wind II, LLC.

Description: Crystal Lake Wind II, LLC submits amendment to filing of jurisdictional agreement.

Filed Date: 01/14/2010.

Accession Number: 20100114-0210.

Comment Date: 5 p.m. Eastern Time on Thursday, February 04, 2010.

Docket Numbers: ER10-559-000.

Applicants: Midwest Independent Transmission System Operator, Inc.

Description: Midwest Independent Transmission System Operator, Inc submits an executed Amended and Restated Interconnection and Operating Agreement with Crownbutte Wind Power, Inc et al.

Filed Date: 01/06/2010.

Accession Number: 20100107-0206.

Comment Date: 5 p.m. Eastern Time on Wednesday, January 27, 2010.

Docket Numbers: ER10-583-000.

Applicants: Monarch Global Energy, Inc.

Description: Petition for Acceptance of Initial Rate Schedule, Waivers and Blanket Authority, submitted by Monarch Global Energy, Inc.

Filed Date: 01/19/2010.

Accession Number: 20100119-0223.

Comment Date: 5 p.m. Eastern Time on Tuesday, February 09, 2010.

Docket Numbers: ER10-593-000.

Applicants: PJM Interconnection, L.L.C.

Description: PJM Interconnection, LLC submits Wholesale Market Participation Agreement.

Filed Date: 01/14/2010.

Accession Number: 20100114-0209.

Comment Date: 5 p.m. Eastern Time on Thursday, February 04, 2010.

Docket Numbers: ER10-594-000.

Applicants: Westar Energy, Inc.

Description: Westar Energy, Inc submits notice of cancellation of a Firm Transmission Service Agreement, Service Agreement No 1.

Filed Date: 01/14/2010.

Accession Number: 20100114-0208.

Comment Date: 5 p.m. Eastern Time on Thursday, February 04, 2010.

Docket Numbers: ER10-595-000.

Applicants: Westar Energy, Inc.

Description: Westar Energy submits Notice of Cancellation of a Non-Firm Transmission Service Agreement, dated 4/23/93 etc.

Filed Date: 01/14/2010.

Accession Number: 20100114-0207.

Comment Date: 5 p.m. Eastern Time on Thursday, February 04, 2010.

Docket Numbers: ER10-596-000.

Applicants: Westar Energy, Inc.

Description: Westar Energy submits Notice of Cancellation of a Second Firm Transmission Service Agreement, dated 11/30/95 etc.

Filed Date: 01/14/2010.

Accession Number: 20100114-0206.

Comment Date: 5 p.m. Eastern Time on Thursday, February 04, 2010.

Docket Numbers: ER10-597-000.

Applicants: Westar Energy, Inc.

Description: Westar Energy submits First Revised Sheets 3 et al of its Rate Schedule 262 Westar's Second Coal Participation Power Agreement etc.

Filed Date: 01/14/2010.

Accession Number: 20100114-0205.

Comment Date: 5 p.m. Eastern Time on Thursday, February 04, 2010.

Docket Numbers: ER10-598-000.

Applicants: Westar Energy, Inc.

Description: Westar Energy submits First Revised Sheets 3 et al of its rate Schedule 275 Westar's Second Coal Participation Power Agreement etc.

Filed Date: 01/14/2010.

Accession Number: 20100114-0204.

Comment Date: 5 p.m. Eastern Time on Thursday, February 04, 2010.

Docket Numbers: ER10-599-000.

Applicants: Liberty Power Maine LLC, Liberty Power New Jersey LLC, Liberty Power Rhode Island LLC, Liberty Power Massachusetts LLC, Liberty Power Illinois LLC, Liberty Power Montana LLC, Liberty Power Michigan LLC, Liberty Power Virginia LLC, Liberty Power Arizona LLC, Liberty Power Oregon LLC, Liberty Power Nevada LLC, Liberty Power New Hampshire LLC, Liberty Power Pennsylvania LLC, Liberty Power Ohio LLC, Liberty Power California LLP, Liberty Power Connecticut LLP

Description: Liberty Power Maine, LLC et al submits notice of cancellation.

Filed Date: 01/14/2010.

Accession Number: 20100114-0214.

Comment Date: 5 p.m. Eastern Time on Thursday, February 04, 2010.

Docket Numbers: ER10-600-000.

Applicants: Ampersand Energy Partners, LLC

Description: Motion for Limited Waiver of Ampersand Energy Partners, LLC.

Filed Date: 01/14/2010.

Accession Number: 20100114-5099.

Comment Date: 5 p.m. Eastern Time on Thursday, February 04, 2010.

Docket Numbers: ER10-602-000.

Applicants: Public Service Company of New Mexico.

Description: Public Service Company of New Mexico submits proposed revisions to its Second Revised Volume 6 Open access Transmission Tariff.

Filed Date: 01/14/2010.

Accession Number: 20100114-0217.

Comment Date: 5 p.m. Eastern Time on Thursday, February 04, 2010.

Docket Numbers: ER10-603-000.

Applicants: New York Independent System Operator, Inc.

Description: New York Independent System Operator, Inc submits purposed revisions to its Market Administration and Control Area Services Tariff etc.

Filed Date: 01/14/2010.

Accession Number: 20100114-0216.

Comment Date: 5 p.m. Eastern Time on Tuesday, January 26, 2010.

Docket Numbers: ER10-604-000.

Applicants: Ameren Services Company.

Description: Ameren Services Company submits an executed revised service agreement for Wholesale Distribution Service and with Illinois Municipal Electric Agency.

Filed Date: 01/15/2010.

Accession Number: 20100114-0219.

Comment Date: 5 p.m. Eastern Time on Friday, February 05, 2010.

Docket Numbers: ER10-605-000.

Applicants: Elm Road Services LLC.

Description: Elm Road Services, LLC submits Power Purchase Agreement Providing for Sales of Test Power between ERS and Wisconsin Electric Power Company.

Filed Date: 01/15/2010.

Accession Number: 20100114-0220.

Comment Date: 5 p.m. Eastern Time on Friday, February 05, 2010.

Docket Numbers: ER10-606-000.

Applicants: PJM Interconnection, L.L.C.

Description: PJM Interconnection, LLC submits an executed interconnection service agreement among PJM, et al.

Filed Date: 01/14/2010.

Accession Number: 20100114-0218.

Comment Date: 5 p.m. Eastern Time on Thursday, February 04, 2010.

Docket Numbers: ER10-614-000.

Applicants: Xcel Energy Services Inc.

Description: Public Service Company of Colorado submits Comanche 3 Test Energy Letter Agreement as a supplement to Public Agreement with Intermountain Rural Electric Association.

Filed Date: 01/19/2010.

Accession Number: 20100119-0225.

Comment Date: 5 p.m. Eastern Time on Tuesday, February 09, 2010.

Docket Numbers: ER10-615-000.

Applicants: Ameren Services Company.

Description: Union Electric Company submits executed revised service agreement for Wholesale Distribution Service with the Wabash Valley Power Association, Inc.

Filed Date: 01/19/2010.

Accession Number: 20100119-0224.

Comment Date: 5 p.m. Eastern Time on Tuesday, February 09, 2010.

Docket Numbers: ER10-617-000.

Applicants: Duke Energy Carolinas, LLC

Description: Duke Energy Carolinas submits the 2/5/09 confirmation with North Carolina Municipal Power Agency 1, and request that the agreement be made effective 1/1/11.

Filed Date: 01/14/2010.

Accession Number: 20100120-0208.

Comment Date: 5 p.m. Eastern Time on Thursday, February 04, 2010.

Docket Numbers: ER10-618-000.

Applicants: Southwest Power Pool, Inc.

Description: Southwest Power Pool, Inc submits revised pages to its Open Access Transmission Tariff to incorporate revised point to point transmission service rates for the Mid Kansas Electric Company etc.

Filed Date: 01/19/2010.

Accession Number: 20100120-0204.

Comment Date: 5 p.m. Eastern Time on Tuesday, February 09, 2010.

Docket Numbers: ER10-619-000.

Applicants: Southwest Power Pool, Inc.

Description: Southwest Power Pool, Inc submits revised pages to its Open Access Transmission Tariff to implement rate changes for Nebraska Public Power District.

Filed Date: 01/19/2010.

Accession Number: 20100120-0205.

Comment Date: 5 p.m. Eastern Time on Tuesday, February 09, 2010.

Take notice that the Commission received the following electric securities filings:

Docket Numbers: ES10-17-000.

Applicants: South Carolina Electric & Gas Company, South Carolina Generating Company, Inc.

Description: Amendment to Application of South Carolina Electric & Gas Company, et al.

Filed Date: 01/19/2010.

Accession Number: 20100119-5200.

Comment Date: 5 p.m. Eastern Time on Friday, January 29, 2010.

Take notice that the Commission received the following PURPA 210(m)(3) filings:

Docket Numbers: QM10-4-001; QM10-4-002.

Applicants: Public Service Company of New Hampshire.

Description: Public Service Company of New Hampshire supplemental information to filing seeking authorization to terminate mandatory power purchase obligation for QF's greater than 5 MWs.

Filed Date: 01/15/2010; 01/12/2010.

Accession Number: 20100115-5117; 20100119-0001.

Comment Date: 5 p.m. Eastern Time on Friday, February 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-1547 Filed 1-26-10; 8:45 am]

BILLING CODE 6717-01-P